DEPARTMENT OF COMMERCE

International Trade Administration

Notice of Scope Rulings

AGENCY: Enforcement and Compliance, International Trade Administration, Department of Commerce.

SUMMARY: The U.S. Department of Commerce (Commerce) hereby publishes a list of scope rulings and circumvention determinations made during the period April 1, 2023, through June 30, 2023. We intend to publish future lists after the close of the next calendar quarter.

DATES: Applicable September 1, 2023.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on May 22, 2023.² This current notice covers all scope rulings made by Enforcement and Compliance between April 1, 2023, and June 30, 2023.

¹ See 19 CFR 351.225(o).

² See Notice of Scope Rulings, 88 FR 32731 (May 22, 2023).

Scope Rulings Made April 1, 2023, Through June 30, 2023

India

A-533-889 and C-533-890: Quartz Surface Products From India

Requestor: Pokarna Engineering Stone Ltd. (Pokarna). Certain sinks and basins produced and exported by Pokarna are not covered by the scope of the antidumping duty (AD) and countervailing duty (CVD) orders based on the plain language that excludes these products from the scope. Certain shower trays produced and exported by Pokarna are covered by the scope of the AD/CVD orders as they correspond to products listed in the plain language of the scope. Certain integrated vanity tops are covered by the scope of the AD/CVD orders because the totality of evidence establishes that the integrated vanity tops have similar physical characteristics, expectations of the ultimate purchaser, ultimate use, and channels of trade to in-scope quartz surface products; June 22, 2023.

People's Republic of China (China)

A-570-090 and C-570-091: Certain Steel Wheels 12 to 16.5 Inches in Diameter From China

Requestor: Asia Wheel Co., Ltd. (Asia Wheel). Certain models of trailer wheels that Asia Wheel processes in Thailand using discs produced in Thailand from circular steel plates from China or a third country and rims produced in Thailand from rectangular steel plates from China or a third country and exported by Asia Wheel to the United States are not covered by the AD/CVD orders based on the plain language of the scope, because the Chinese steel plate components are neither finished nor unfinished rims, discs, or steel wheels. Further, certain models of trailer wheels that Asia Wheel processes in Thailand using discs from China and rims produced in Thailand from rectangular steel plates from China or a third country and certain models of dual wheel trailer wheels which Asia Wheel processes in Thailand using discs produced in Thailand from disc blanks from China and rims from China, which Asia Wheel exports to the United States, are covered by the scope of the AD/CVD orders based on a finding that the products are not substantially transformed by the third-country processing in Thailand; April 11, 2023.

A-570-891: Hand Trucks and Certain Parts Thereof From China

Requester: HKC-US, LLC. (HKC-US). The mobile utility fan imported by HKC-US is not covered by the scope of the AD order because it lacks a toeplate or horizontal projecting edge capable of sliding under a load for the purposes of lifting and/or moving the load; April 12, 2023.

A-570-831: Fresh Garlic From China

Requestor: Green Garden Produce LLC (Green Garden Produce). The large and small garlic chunks imported by Green Garden Produce are not covered by the scope of the AD order because they have been reduced in size beyond peeling and are no longer whole or separated into constituent cloves; June 1, 2023.

A-570-082 and C-570-083: Certain Steel Wheels 22.5 to 24.5 Inches in Diameter From China

Requestor: Asia Wheel. Certain truck wheels that Asia Wheel exports to the United States that are assembled in Thailand from Chinese-origin discs and rims produced in Thailand from Chinese-origin (or another foreign country) steel sheet plates are subject to the scope of the AD/CVD orders because the Chinese wheel parts are not substantially transformed in Thailand; June 7, 2023.

A-570-104 and C-570-105: Alloy and Certain Carbon Steel Threaded Rod From China

Requestor: Chun Yu Works USA Inc. (Chun Yu Works USA). The hex nut sleeve anchors imported by Chun Yu Works USA are outside the scope of the AD/CVD orders based on the plain language of the orders because the hex nut sleeve anchors include a headed bolt; June 9, 2023.

A-570-104 and C-570-105: Alloy and Certain Carbon Steel Threaded Rod From China

Requestor: Chun Yu Works USA. The carbon steel wedge anchors imported by Chun Yu Works USA are outside the scope of the AD/CVD orders based on the plain language of the orders because the wedge anchors include a headed bolt; June 9, 2023.

A-570-932: Certain Steel Threaded Rod From China

Requestor: Chun Yu Works USA. The hex nut sleeve anchors imported by Chun Yu Works USA are outside the scope of the AD order based on the plain language of the order because the hex nut sleeve anchors include a headed bolt; June 9, 2023.

A-570-932: Certain Steel Threaded Rod From China

Requestor: Chun Yu Works USA. The carbon steel wedge anchors imported by Chun Yu Works USA are outside the scope of the AD order based on the plain language of the order because the wedge anchors include a headed bolt; June 9, 2023.

A-570-890: Woodend Bedroom Furniture From China

Requestor: Amini Innovation Corporation (Amini Innovation). The following products are covered by the scope of the AD order because each product is consistent with a type of wooden bedroom furniture that is covered by the scope: (1) Glimmering Heights Upholstered Accent Cabinet/Nightstand/End Table (SKU 9011040-111); (2) Glimmering Heights Storage Console/Dresser/Sideboard/Credenza (SKU 9011050-111); (3) Glimmering Heights 5 Drawer Vertical Storage Cabinet/Chest of Drawers (SKU 9011070-111); (4) Glimmering Heights Upholstered Swivel Chiffonier/Lingerie Chest/Living Room Storage Cabinet (SKU 9011062-111); (5) Glimmering Heights Upholstered Vanity/Desk (SKU 9011058-111); (6) Glimmering Heights Upholstered Mirror (SKU 9011260-111); (7) Melrose Plaza Upholstered Accent Cabinet/Nightstand/End Table (SKU 9019040-118); (8) Melrose Plaza Upholstered Storage Console/Dresser/Sideboard/Credenza (SKU 9019050-118); (9) Melrose Plaza 5 Drawer Vertical Storage Cabinet/Chest of Drawers (SKU 9019070-118); (10) Melrose Plaza Upholstered Swivel Chiffonier/Lingerie Chest/Living Room Storage Cabinet (SKU 9019062-118); (11) Melrose Plaza Upholstered Vanity/Desk (SKU 9019058-118); (12) Melrose Plaza Upholstered Mirror (SKU 9019260-118); (13) Hollywood Swank Upholstered Accent Cabinet/Nightstand/End Table (SKU 03040-09); (14) Hollywood Swank Upholstered Storage Console/Dresser/Sideboard/Credenza (SKU 03050-09); (15) Hollywood Swank Vertical Storage Cabinet/Chest of Drawers (SKU 03070-09); (16) Hollywood Swank Upholstered Swivel Chiffonier/Lingerie Chest/Living Room Storage Cabinet (SKU 03062-09 and 03062-81); (17) Hollywood Swank Upholstered Vanity/Desk (SKU 03058-09 and 03058-81); (18) Hollywood Swank Upholstered Mirror (SKU 03060R-09); (19) Hollywood Loft Upholstered Accent Cabinet/Nightstand/End Table (SKU 9001640-104); (20) Hollywood Loft Upholstered Storage Console/Dresser/Sideboard/Credenza (SKU 9001650-104); (21) Hollywood Loft 5 Drawer Vertical Storage Cabinets/Chest of Drawers (SKU 9001670-104); and (22) Hollywood Loft Upholstered Mirror (SKU 9001660-08). The following mirror products are not subject to the scope of the AD order because they are paired with vanities, not dressers, and are therefore explicitly excluded from the order: (1) Glimmering Heights Upholstered Mirror (SKU 9011068-111); (2) Melrose Plaza Upholstered Mirror (SKU 9019068-118); and (3) and Hollywood Swank Upholstered Mirror (SKU 03068RN-09/81); April 18, 2023.

A-570-890: Woodend Bedroom Furniture From China

Requestor: Teamson, U.S., Inc. (Teamson). The following wooden floor cabinets are not covered by the scope of the AD order because the products, as described by Teamson, were designed and manufactured as bathroom storage furniture, not bedroom furniture, and each cabinet is part of a coordinated group of non-bedroom furniture, rather than bedroom furniture: (1) Avery Floor Cabinet with Two Doors (model ELG-542); (2) Free Standing Versailles Double Floor Cabinet—White (model ELG-550) and Espresso (model ELG-571); (3) Freestanding Rain Glass Floor Cabinet—Two Doors—White (model ELG-580); and (4) Freestanding St. James Linen Tower Two Door Two Drawers Top (model 592C1) and Bottom (model 592C2)—White; June 28, 2023.

A-570-084 and C-570-085: Certain Quartz Surface Products From China

Requestor: Golden Spectrum LLC. (Golden Spectrum) Certain crushed glass surface products are excluded from the AD/CVD orders if they meet four criteria: (1) the crushed glass content is greater than any other single material, by actual weight; (2) there are pieces of crushed glass visible across the surface of the product; (3) at least some of the individual pieces of crushed glass that are visible across the surface are larger than one centimeter wide as measured at their widest cross-section (glass pieces); and (4) the distance between any single glass piece and the closest separate glass piece does not exceed three inches. Golden Spectrum's crushed glass surface products met these criteria and are, thus, excluded from the scope of the AD/CVD orders; June 29, 2023.

Notification to Interested Parties

Interested parties are invited to comment on the completeness of this list of completed scope inquiries and scope/circumvention inquiry combinations made during the period April 1, 2023, through June 30, 2023. Any comments should be submitted to the Deputy Assistant Secretary for AD/CVD Operations, Enforcement and Compliance, International Trade Administration, via email to CommerceCLU@trade.gov.

This notice is published in accordance with 19 CFR 351.225(o).

Dated: August 24, 2023.
James Maeder,
Deputy Assistant Secretary for Antidumping and Countervailing Duty Operations.

[FR Doc. 2023-18958 Filed 8-31-23; 8:45 am]

BILLING CODE 3510-DS-P